DEPARTMENT OF AGRICULTURE

Forest Service

Notice of Issuance of Final Permanent Seasonal Hunting Order in the Douglas Ranger District of the Thunder Basin National Grassland

AGENCY: Forest Service, Agriculture (USDA).

ACTION: Notice.

SUMMARY: The Forest Service (Forest Service or Agency), United States Department of Agriculture, is issuing a final permanent seasonal order prohibiting prairie dog hunting annually from February 1 to August 15 in Management Area 3.67 of the Douglas Ranger District in the Thunder Basin National Grassland, which covers approximately 42,000 acres in Campbell, Converse, and Weston Counties, Wyoming.

ADDRESSES: The final permanent seasonal order, map, response to comments on the proposed permanent seasonal order, justification for the final permanent seasonal order, and regulatory certifications for the final permanent seasonal order are posted on the Medicine Bow-Routt National Forests and Thunder Basin National Grassland's web page at https://www.fs.usda.gov/alerts/mbr/alerts-notices.

FOR FURTHER INFORMATION CONTACT: Rob Robertson, Douglas District Ranger, 307-358-4690 or robert.robertson@usda.gov. Individuals who use telecommunication devices for the hearing-impaired may call the Federal Relay Service at 800-877-8339, 24 hours a day, every day of the year, including holidays.

SUPPLEMENTARY INFORMATION: Section 4103 of the John D. Dingell, Jr. Conservation, Management, and Recreation Act of 2019 (Pub. L. 116-9, Title IV (Sportsmen's Access and Related Matters)), hereinafter “the Dingell Act,” requires the Forest Service to provide advance notice and opportunity for public comment before temporarily or permanently closing any National Forest System lands to hunting, fishing, or recreational shooting.

The final permanent seasonal order prohibiting prairie dog hunting annually from February 1 to August 15 in Management Area 3.67 of the Douglas Ranger District in the Thunder Basin National Grassland has completed the public notice and comment process required under the Dingell Act. The Forest Service is issuing the final permanent seasonal hunting order. The final permanent seasonal order, map, response to comments on the proposed permanent seasonal order, justification for the final permanent seasonal order, and regulatory certifications for the final permanent seasonal order are posted on the Medicine Bow-Routt National Forests and Thunder Basin National Grassland's web page at https://www.fs.usda.gov/alerts/mbr/alerts-notices.

Dated: March 29, 2023.
Gregory Smith,
Associate Deputy Chief, National Forest System.

[FR Doc. 2023-06909 Filed 4-4-23; 8:45 am]

BILLING CODE 3411-15-P